CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled National Evaluation of the Social Innovation Fund for review and approval in accordance with the Paperwork Reduction Act of 1995, Public Law 104-13, (44 U.S.C. Chapter 35). Copies of this ICR, with applicable supporting documentation, may be obtained by calling the Corporation for National and Community Service, Joscelyn Silsby, at (202) 606-3464 or email to jsilsby@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Comments

A 60-day public comment Notice was published in the Federal Register on May 22, 2012. This comment period ended July 21, 2012. No public comments were received from this Notice.

Description: CNCS is seeking approval for an annual program activity data collection form, a follow-up interview with subgrantees, semi-structured discussion guide with intermediaries, and discussion guides for SIF program directors, subgrantee executive directors, subgrantee evaluators and stakeholders that will form case studies. Intermediaries will use the annual program activity data collection form to provide data on the 138 subgrantees to document the changes in outputs and outcomes that occur as a result of SIF, beginning in the fall of 2012. This will be an annual data collection and will be conducted in 2013, 2014, and 2015. A follow-up interview of the 138 subgrantees is to obtain contextual and explanatory information (clarification of the data received from the annual program activity data collection). This data collection will occur in 2012, 2013, and 2015. Discussion guides will be used to (1) conduct in-depth discussions with 11 intermediaries in 2013 (to understand the strategies in place for scaling, replicating and/or expanding evidence based program models and how evidence was used to influence expansion; and (2) conducting in-person discussions with 15 subgrantee SIF program directors, subgrantee executive directors, and subgrantee evaluators, and stakeholders to document the extent to which expanded programs adhere to the original program model and understand how different program expansion strategies may be categorized.

Type of Review: New.

Agency: Corporation for National and Community Service.

Title: National Evaluation of the Social Innovation Fund.

OMB Number: TBD.

Agency Number: None.

Affected Public: The affected public will be the intermediaries who received funding from CNCS and the subgrantees who received SIF funding from the intermediaries stakeholders (representatives from partnering organizations, volunteers, and the local evaluator).

Total Respondents: 362.

Frequency: The annual program activity data collection instrument will be completed once annually during 2012, 2013, 2014, and 2015. Follow-up interviews with subgrantees will occur in 2012, 2013, and 2015. In-depth discussions with intermediaries will occur in 2013. Site visits and discussions will occur once in 2013 with approximately 15 subgrantees (SIF program director, subgrantee executive director and subgrantee evaluator), and stakeholders to develop case studies focused on program expansion strategies and capacity strengthening work.

Average Time per Response: Average response time of the 11 grantees to compile the data for each sub grantee for the annual program activity data collection instrument will be 3 hours per subgrantee (total 414 hours). The follow-up interview with subgrantees will be an average of 30 minutes (total 69 hours). Discussions with SIF intermediaries will take an average of 1.0 hour (total 11 hours). And the discussions with SIF Program directors, subgrantee executive directors, subgrantee evaluators, and stakeholders for the case studies will be an average of 1 hour per respondent (total 75 hours).

Estimated Total Burden Hours: 569 hours.

Total Burden Cost (Capital/Startup): None.

Total Burden Cost (Operating/Maintenance): None.

Dated: July 20, 2012.
Christopher Spera,
Director of Research and Evaluation.

[FR Doc. 2012-18193 Filed 7-25-12; 8:45 am]

BILLING CODE 6050-$$-P